DEPARTMENT OF AGRICULTURE

Food and Nutrition Service

Agency Information Collection Activities: Proposed Collection; Comment Request—Information Collection for the National School Lunch Program

AGENCY: Food and Nutrition Service (FNS), USDA.

ACTION: Notice.

SUMMARY: In accordance with the Paperwork Reduction Act of 1995, this notice invites the general public and other public agencies to comment on this information collection. This collection is a revision of a currently approved collection which FNS employs to determine public participation in the National School Lunch Program.

DATES: Written comments must be received on or before May 21, 2012.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Lynn Rodgers-Kuperman, Branch Chief, Program Analysis and Monitoring, Child Nutrition Division, Food and Nutrition Service, U.S. Department of Agriculture, 3101 Park Center Drive, Alexandria, VA 22302-1594. Comments may also be submitted via fax to the attention of Lynn Rodgers-Kuperman at 703-305-2879 or via email to Lynn.Rodgers@fns.usda.gov. Comments will also be accepted through the Federal eRulemaking Portal. Go to http://www.regulations.gov, and follow the online instructions for submitting comments electronically.

All written comments will be open for public inspection at the office of the Food and Nutrition Service during regular business hours (8:30 a.m. to 5 p.m., Monday through Friday) at 3101 Park Center Drive, Alexandria, Virginia 22302.

All responses to this notice will be summarized and included in the request for Office of Management and Budget approval. All comments will be a matter of public record.

FOR FURTHER INFORMATION CONTACT: Requests for additional information or copies of this information collection should be directed to Lynn Rodgers-Kuperman at the address indicated above or by phone at 703-305-2600.

SUPPLEMENTARY INFORMATION:

Title: Information Collection for the National School Lunch Program.

Forms: FNS-66, FNS-66A, FNS-640.

OMB Number: 0584-0006.

Expiration Date: May 31, 2012.

Type of Request: Revision of a currently approved collection.

Abstract: The Richard B. Russell National School Lunch Act (NSLA), as amended, authorizes the National School Lunch Program (NSLP) to safeguard the health and well-being of the nation's children and provide low cost or free school lunch meals to qualified students through subsidies to schools. The United States Department of Agriculture (USDA) provides States with general and special cash assistance and donations of foods to assist schools in serving nutritious lunches to children each school day. Participating schools must serve lunches that are nutritionally adequate, and maintain menu and production records to demonstrate compliance with the meal requirements. To the extent practicable, schools ensure that participating children gain a full understanding of the relationship between proper eating and good health.

Section 10 of the Child Nutrition Act of 1966 (42 U.S.C. 1779) requires the Secretary of Agriculture to prescribe such regulations as deemed necessary to carry out this Act and the NSLA (42 U.S.C. 1751 et seq.). Pursuant to that provision, the Secretary has issued 7 CFR Part 210, which sets forth policies and procedures for the administration and operation of the NSLP. State and local operators of the NSLP are required to meet Federal reporting and accountability requirements. The vast majority of reporting relates to information regarding eligibility determinations of the children (including verification of a required sample size), the number of meals served, and data from required reviews conducted by the State agency. State and local operators are also required to maintain records regarding eligibility to operate the program, review results, and school food service accounts of revenues and expenditures. The reporting and recordkeeping burden associated with this revision is decreased from 11,806,566 to 11,755,891 hours. This change is mainly due to reduction in number of State agencies operating the program, and other program changes.

This information collection is required to administer and operate this program in accordance with the NSLA. The Program is administered at the State and school food authority (SFA) levels, and the operations include the submission and approval of applications, execution of agreements, submission of claims, payment of claims, providing monitoring and technical assistance. All of the reporting and recordkeeping requirements associated with the NSLP are currently approved by the Office of Management and Budget and are in force. This is a revision of the currently approved information collection.

Affected Public: Schools; School food authorities; and State agencies.

Number of Respondents: 122,661. This includes 101,747 schools; 20,858 school food authorities (SFAs); and 56 State agencies (SAs).

Number of Responses per Respondent: 20.1784.

Total Annual Responses: 2,475,102.

Reporting Time per Response: 1.176681.

Estimated Annual Reporting Burden: 2,912,405.

Number of Recordkeepers: 122,661 (101,747 schools, 20,858 SFAs, 56 SAs).

Number of Records per Record Keeper: 510.2643.

Estimated total Number of Records/Response to Keep: 62,589,529.

Recordkeeping Time per Response: 0.14129338.

Total Estimated Recordkeeping Burden: 8,843,486.

Annual Recordkeeping and Reporting Burden: 11,755,891.

Current OMB Inventory for Part 210: 11,806,566.

Difference (change in burden with this renewal): 50,675.

Refer to the table below for estimated total annual burden for each type of respondent.

Affected public | Estimated number of respondents | Number of responses per respondent | Total annual responses | Estimated total hours per response | Estimated total burden
Reporting
State Agencies | 56 | 263 | 14,728 | 1.42636 | 21,005
School Food Authorities | 20,858 | 21.39668 | 425,434 | 4.81132 | 2,046,900
Schools | 101,747 | 20 | 2,034,940 | 0.415 | 844,500
Total Estimated Reporting Burden | 122,661 |  | 2,475,102 |  | 2,912,405
Recordkeeping
State Agencies | 56 | 4607 | 257,992 | 0.273312 | 70,512
School Food Authorities | 20,858 | 12 | 250,296 | 8.638333 | 2,162,140
Schools | 101,747 | 610.1530 | 62,081,241 | 0.1064868 | 6,610,833
Total Estimated Recordkeeping Burden | 122,661 |  | 62,589,529 |  | 8,843,486
Total of Reporting and Recordkeeping
Reporting | 122,661 | 20.178 | 2,475,102 | 1.176681 | 2,912,405
Recordkeeping | 122,661 | 510.264 | 62,589,529 | 0.14129338 | 8,843,486
Total |  |  | 65,064,631 |  | 11,755,891

Dated: March 16, 2012.
Jeffrey J. Tribiano,
Acting Administrator, Food and Nutrition Service.

[FR Doc. 2012-6786 Filed 3-20-12; 8:45 am]

BILLING CODE 3410-30-P